FEDERAL COMMUNICATIONS COMMISSION

Notice of Public Information Collection(s) Being Reviewed by the Federal Communications Commission, Comments Requested

November 19, 2003.

SUMMARY: The Federal Communications Commission, as part of its continuing effort to reduce paperwork burden invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 30, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0804.

Title: Universal Service—Health Care Providers Universal Service Program.

Form Nos.: FCC Forms 465, 466, 466-A and 467.

Type of Review: Revision of a currently approved collection.

Respondents: Business or other for-profit and not-for-profit institutions.

Number of Respondents: 12,800 respondents; 14,400 responses.

Estimated Time Per Response: 1.5-2.5 hours.

Frequency of Response: On occasion reporting requirement and third party disclosure requirement.

Total Annual Burden: 16,000 hours.

Total Annual Cost: N/A.

Needs and Uses: The Commission is considering changes to the Rural Health Care universal support mechanism in a pending Order. These potential changes could affect the respondent pool. The Commission is anticipating the possibility of adjusting the total annual responses and burden.

OMB Control No.: 3060-0942.

Title: Access Charge Reform, Price Cap Performance Review for Local Exchange Carriers, Low-Volume Long Distance Users, Federal-State Joint Board on Universal Service.

Form No.: N/A.

Type of Review: Extension of a currently approved collection.

Respondents: Business or other for-profit.

Number of Respondents: 108.

Estimated Time Per Response: 2-20 hours.

Frequency of Response: Annual and quarterly reporting requirements, recordkeeping requirement, and third party disclosure requirement.

Total Annual Burden: 6,677 hours.

Total Annual Cost: N/A.

Needs and Uses: Commission rules implemented the Coalition for Affordable Local and Long Distance Services (CALLS) proposal, which resolves major outstanding issues concerning access charges; the NPRM addressed implicit universal service support in access charges, the X-factor remand, the Low-Volume Long-Distance Users NOI, and on geographically deaveraging SLC's and the next scheduled price cap performance review. The Commission is seeking extension (no change) to this information collection in order to obtain the three year clearance.

OMB Control No.: 3060-0999.

Title: Exemption of Public Mobile Service Phones from the Hearing Aid Compatibility Act.

Form No.: N/A.

Type of Review: Revision of a currently approved collection.

Respondents: Individuals or households and business or other for-profit.

Number of Respondents: 965.

Estimated Time Per Response: 4 hours.

Frequency of Response: Biennial reporting requirement and third party disclosure requirement.

Total Annual Burden: 16,299 hours.

Total Annual Cost: N/A.

Needs and Uses: In a Report and Order, the Commission modified the exemption for telephones used with public mobile services from the requirements of the Hearing Aid Compatibility Act of 1988 (HAC Act). The Order requires digital wireless phone manufacturers and service providers to make certain digital wireless phones capable of effective use with hearing aids.

OMB Control No.: 3060-0600.

Title: Application to Participate in an FCC Auction.

Form No.: FCC Form 175.

Type of Review: Revision of a currently approved collection.

Respondents: Business or other for-profit, not-for-profit institutions, and state, local or tribal governments.

Number of Respondents: 11,000.

Estimated Time Per Response: 1.5 hours.

Frequency of Response: On occasion reporting requirement.

Total Annual Burden: 16,500 hours.

Total Annual Cost: N/A.

Needs and Uses: The information collected will be used by the Commission to determine if the applicant is legally, technically and financially qualified to participate in an FCC auction. In addition, if the applicant applies for status as a particular type of auction participant pursuant to the Commission's rules, the Commission will use the information to determine if the applicant is eligible for the status requested. The Commission's auction rules and requirements are designed to ensure that the competitive bidding process is limited to serious qualified applicants and to deter possible abuse of the bidding and licensing process. Contemplated revisions to the current FCC Form 175 would revise the format for collecting information and incorporate in FCC Form 175 information previously collected in attachments. The Commission also contemplates integrating ownership information collected on the FCC Form 175 with ownership information collected in other forms in order to reduce the need for applicants to file duplicative information. The preceding estimated time per response reflects the incorporation of previously separate information collections and is an average that will depend in part on whether the applicant has previously submitted ownership information on other integrated forms. The Commission plans on using this information for all upcoming auctions and re-auctions.

OMB Control No.: 3060-0799.

Title: FCC Ownership Disclosure Information for the Wireless Telecommunications Bureau.

Form No.: FCC Form 602.

Type of Review: Revision of a currently approved collection.

Respondents: Individuals or households; business or other for-profit, not-for-profit institutions, and state, local or tribal governments.

Number of Respondents: 3,000.

Estimated Time Per Response: 1.5 hours.

Frequency of Response: On occasion reporting requirement.

Total Annual Burden: 3,000 hours.

Total Annual Cost: $450,000.

Needs and Uses: The FCC Form 602 is being revised to request additional information concerning if it's a proposed filing and a possible option to delete the filing. The data collected on this form included the FCC Registration Numbers for the applicant, any related FCC regulated businesses of the applicant/licensee, disclosable interest holders and any related FCC regulated businesses of disclosable interest holders. These data elements will not be displayed to the public. FCC Form 602 consists of a main form and associated schedule(s) for technical information. Filers will use multiple copies of FCC Form 602 as needed to list each direct and indirect owner and associated information.

OMB Control No.: 3060-0798.

Title: FCC Application for Wireless Telecommunications Bureau Radio Service Authorization.

Form No.: FCC Form 601.

Type of Review: Revision of a currently approved collection.

Respondents: Individuals or households, business or other for-profit, not-for-profit institutions, and state, local or tribal governments.

Number of Respondents: 250,520.

Estimated Time Per Response: 1.25 hours.

Frequency of Response: On occasion reporting requirement and third party disclosure requirement.

Total Annual Burden: 219,205 hours.

Total Annual Cost: $50,104,000.

Needs and Uses: The Wireless Telecommunications Bureau adopted on October 16, 2003 and released on November 4, 2003, Allocations and Service Rules for the 71-76 GHz, 81-86 GHz and 92-95 GHz Bands, pursuant to Parts 15 and 101. There is no change in the estimated average burden and number of respondents at this time as it is unknown as to how many additional respondents may partake in this “Millimeter Wave” spectrum. The FCC Form 601 is a consolidated, multi-part application or “long form” for market-based licensing and site-by-site licensing in the Universal Licensing System (ULS).

OMB Control No.: 3060-0895.

Title: Numbering Resource Optimization, CC Docket No. 99-200.

Form No.: FCC Form 502.

Type of Review: Revision of a currently approved collection.

Respondents: Business or other for-profit and state, local or tribal governments.

Number of Respondents: 5,400.

Estimated Time Per Response: 1-40 hours.

Frequency of Response: On occasion, semi-annual, and one-time reporting requirements, recordkeeping requirement and third party disclosure requirement.

Total Annual Burden: 181,890 hours.

Total Annual Cost: $7,859,000.

Needs and Uses: The FCC Form 502 is being revised to change the period for phone numbers held for specific end users or customers classified as reserved numbers from 45 day to 180 days. This change in the form instructions will be in the Utilization and Forecast forms in the usage categories.

Federal Communications Commission.
Marlene H. Dortch,
Secretary.

[FR Doc. 03-29815 Filed 11-28-03; 8:45 am]

BILLING CODE 6712-01-P